NATIONAL ARCHIVES AND RECORDS ADMINISTRATION

Nixon Presidential Historical Materials; Opening of Materials

AGENCY: National Archives and Records Administration.

ACTION: Notice of opening of materials.

SUMMARY: This notice announces the opening of additional files from the Nixon Presidential historical materials. Notice is hereby given that, in accordance with section 104 of Title I of the Presidential Recordings and Materials Preservation Act (PRMPA, 44 U.S. C. 2111 note) and 1275.42(b) of the PRMPA Regulations implementing the Act (36 CFR part 1275), the agency has identified, inventoried, and prepared for public access integral file segments among the Nixon Presidential historical materials.

DATES: The National Archives and Records Administration (NARA) intends to make these materials described in this notice available to the public beginning May 6, 2002. In accordance with 36 CFR 1275.44, any person who believes it necessary to file a claim of legal right or privilege concerning access to these materials should notify the Archivist of the United States in writing of the claimed right, privilege, or defense before April 19, 2002.

ADDRESSES: The materials will be made available to the public at the National Archives at College Park research room, located at 8601 Adelphi Road, College Park, Maryland beginning at 8:45 a.m. Researchers must have a NARA researcher card, which they may obtain when they arrive at the facility.

Petitions asserting a legal or constitutional right or privilege which would prevent or limit access must be sent to the Archivist of the United States, National Archives at College Park, 8601 Adelphi Road, College Park, Maryland 20740-6001.

FOR FURTHER INFORMATION CONTACT: Karl Weissenbach, Director, Nixon Presidential Materials Staff, 301-713-6950.

SUPPLEMENTARY INFORMATION: The integral file segments of textual materials to be opened on May 6, 2002, consist of 54 cubic feet. The White House Central Files Unit is a permanent organization within the White House complex that maintains a central filing and retrieval system for the records of the President and his staff. Some of the materials are from the White House Central Files, Subject Files. The Subject Files are based on an alphanumerical file scheme of 61 primary categories. Listed below are the integral file segments from the White House Central Files, Subject Files in this opening.

Subject Category

Volume: 8 cubic feet.

Federal Government (FG)

FG 93 President's Commission on Income Maintenance Program

FG 94 Commission on Marine Service, Engineering, and Resources

FG 106 District of Columbia

FG 150 Interstate Commerce Commission

FG 151 Joint Commission on Aging

FG 153 National Advisory Commission on Civil Disorders

FG 154 National Advisory Commission on Health Facilities

FG 155 National Advisory Committee on Libraries

FG 156 National Advisory Commission on Low Income Housing

FG 157 National Advisory Council on Adult Basic Education

FG 163 National Advisory Council on Vocational Education

FG 165 National Alliance of Businessmen

FG 222 Tax Court of the United States

FG 223 Temporary Commission on Pennsylvania Avenue

FG 224 Tennessee Valley Authority

In accordance with the provisions of Executive Order 12958, several series within the National Security Council files have been systematically reviewed for declassification and will be made available. In addition, a number of documents which were previously withheld from public access have been re-reviewed for release and or declassified under the provisions of Executive Order 12958, or in accordance with 36 CFR 1275.56 (Public Access Regulations).

National Security Council Files series:

Volume: 45 cubic feet.

A number of documents which were previously withheld from public access have been reviewed and/ or declassified under the Mandatory Review provisions of Executive Order 12958 and will be made available.

Previously restricted materials:

Volume: 1 cubic foot.

Public access to some of the items in the file segments listed in this notice will be restricted as outlined in 36 CFR 1275.50 or 1275.52 (Public Access Regulations).

Dated: March 13, 2002.
John W. Carlin,
Archivist of the United States.

[FR Doc. 02-6635 Filed 3-19-02; 8:45 am]

BILLING CODE 7515-01-P